DEPARTMENT OF THE INTERIOR

Office of the Secretary

National Wild and Scenic Rivers System; Westfield River, Massachusetts

AGENCY: Office of the Secretary, DOI.

ACTION: Approval of application.

SUMMARY: The Secretary of Interior hereby announces approval of an application by the Governor of Massachusetts to expand the designation of the Westfield River, Massachusetts and tributaries as a State- and local-administered component of the National Wild and Scenic Rivers System. The effect of this action will be that 34.8 miles of river will be added to the previously designated 43.3 miles. The river and affected lands will continue to be administered by State and local authorities without expense to the United States.

FOR FURTHER INFORMATION CONTACT: Jamie Fosburgh, National Park Service, Northeast Region, 15 State Street, Boston, MA 02109, (617) 223-5191 (Jamie_Fosburgh@nps.gov).

SUPPLEMENTARY INFORMATION: Pursuant to the authority granted the Secretary of the Interior by section 2(a)(ii) of the Wild and Scenic Rivers Act (16 U.S.C. 1273(a)(ii)), and upon proper application of the Governor of the Commonwealth of Massachusetts, 34.8 miles of the Westfield River, its three branches, and headwater tributaries are hereby added to the 43.3 miles of the Westfield River previously designated as State-administered components of the National Wild and Scenic Rivers System on November 16, 1993.

On April 26, 2002, the Governor of the Commonwealth of Massachusetts petitioned the Secretary of the Interior to add 34.8 miles of the Westfield River and tributaries to the National System. These river segments had been designated a Local Scenic River on December 5, 2001, pursuant to the Massachusetts Scenic and Recreational Rivers Act. In response to the Governor's request, the National Park Service conducted a complete review of the State application and documents associated with the designation decision. As a result of that review, the Secretary has determined that 34.8 miles of the Westfield and its tributaries should be designated as a State-administered component of the National Wild and Scenic Rivers System, as provided for in section 2(a)(ii) of the Wild and Scenic Rivers Act (WSRA).

The State of Massachusetts has fulfilled the requirement of the WSRA by designating these segments as “Local Scenic River” and by adopting a program of action that will adequately protect the river from adverse State actions. The National Park Service evaluation of the river concluded that these segments of the Westfield River meet the criteria for wild, scenic, and recreational classification under the WSRA. Accordingly, the following river segments are classified as wild, scenic, or recreational pursuant to section 2(b) of the WSRA to be administered by State and local government: Wild: Shaker Mill Brook, 2.6 miles from Brooker Hill Road in Becket to its headwaters. Scenic: Upper East Branch, 6.6 miles from the Windsor/Cummington town line to its confluence; Upper East Branch Tributaries—Drowned Land Brook, 1.5 miles; Center Brook, 2.5 miles; and Windsor Jambs Brook, 1.3 miles; and Headwater Tributaries of the West Branch—Shaker Mill Brook, 1.2 miles from Brooker Hill Road in Becket to its confluence; Depot Brook, 4.5 miles; Savery Brook, 2.9 miles; Watson Brook, 1.9 miles; and Center Pond Brook, 1.6 miles from Center Pond to its confluence.

Recreational: Lower Middle Branch, East Branch, and Main Stem, 3.2 miles in the Town of Huntington and the Upper East Branch, 5.0 miles from its confluence with Sykes Brook to its confluence with the West Branch.

This action is taken following public involvement and consultation with the Departments of Agriculture, Army, Energy, and Transportation, the Federal Energy Regulatory Commission, and the U.S. Environmental Protection Agency as required by section 4(c) of the WSRA. A 45-day period for public comment on the State's application and river management plan of the proposed national designation was provided from April 10, 2003, to May 27, 2003. All comments received have been carefully considered. A 30-day period of public comment on the environmental assessment was provided from May 4, 2004, to June 4, 2004. No comments were received on the Environmental Assessment.

Notice is hereby given that, effective upon this date, the above-described river segments are approved for inclusion in the National Wild and Scenic Rivers System to be administered by the Commonwealth of Massachusetts and local jurisdictions.

Dated: September 28, 2004.
Gale A. Norton,
Secretary of the Interior.

[FR Doc. 04-24174 Filed 10-28-04; 8:45 am]

BILLING CODE 4312-52-P